DEPARTMENT OF ENERGY

Federal Energy Regulatory Commission

[Docket No. RP04-409-000]

Pogo Producing Company; Notice of Application for Emergency Allocation of OCS Pipeline Capacity Under Section 5(E) of the OCSLA

July 23, 2004.

Take notice that on July 23, 2004, Pogo Producing Company (Pogo) filed an Application for Emergency Relief pursuant to Section 5(e) of the Outer Continental Shelf Lands Act (OCSLA), 43 U.S.C. 1334(e), requesting an emergency order allocating pipeline capacity on Southern Natural Gas Company (Southern) upstream of the Toca, Louisiana processing plant (Toca Plant) to avoid unnecessary curtailment or shut-in of OCS oil and gas production connected into Southern's facilities beginning August 1, 2004 and for so long as the maintenance shut-down of the Toca No. 1 processing unit (Toca 1 Unit) continues, expected to be two to four weeks.

In the Application, Pogo states that because of reduced processing capability at the Toca plant operated by Enterprise Operating Partners, LLC, during the period of maintenance shut-down, Southern has notified all shippers that it intends to institute a 25 degree hydrocarbon dewpoint (HDP) limit under its FERC Gas Tariff at the Enterprise, Mississippi Monitoring Point. Such a limitation will require curtailments of oil and gas production on the Outer Continental Shelf (OCS) upstream of the Toca Plant. Pogo requests an emergency allocation of pipeline receipt point capacity upstream of the Toca Plant that will maximize OCS oil and gas production during the period of the Toca Unit 1 shut-down. Specifically, Pogo requests that the Commission, in consultation with the Secretary of Energy, enter an order directing Southern to cause gas supplies that enter Southern's system at the OCS interconnects with the Viosca Knoll Gathering System and Mississippi Canyon Pipeline Company to be diverted by setting the flow rate at those two pipeline interconnects at zero during the period of the Toca 1 Unit shut-down.

Any person desiring to intervene or to protest this filing must file in accordance with Rules 211 and 214 of the Commission's Rules of Practice and Procedure (18 CFR 385.211 and 385.214). Because of the emergency nature of the relief requested, all such motions or protests must be filed on or before Tuesday, July 27, 2004. Protests will be considered by the Commission in determining the appropriate action to be taken, but will not serve to make protestants parties to the proceeding. Any person wishing to become a party must file a notice of intervention or motion to intervene, as appropriate. Motions to intervene and protests must be served on the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on July 27, 2004.

Linda Mitry,
Acting Secretary.

[FR Doc. E4-1677 Filed 7-29-04; 8:45 am]

BILLING CODE 6717-01-P